COMMISSION ON CIVIL RIGHTS

Sunshine Act Meeting Notice

AGENCY: United States Commission on Civil Rights.

ACTION: Notice of Commission Business Meeting.

SUMMARY: Notice is hereby given, pursuant to the provisions of the rules and regulations of the U.S. Commission on Civil Rights and the Federal Advisory Committee Act (FACA), that a Business Meeting of the U.S. Commission on Civil Rights will be convened at 10 a.m. on Friday, February 24, 2017.

DATES: Friday, February 24, 2017, at 10 a.m. EST.

ADDRESSES: National Place Building, 1331 Pennsylvania Ave. NW., 11th Floor, Suite 1150, Washington, DC 20425 (Building entrance on F Street NW.).

FOR FURTHER INFORMATION CONTACT: Brian Walch, Communications and Public Engagement Director. Phone: (202) 376-8371; TTY: (202) 376-8116; publicaffairs@usccr.gov.

SUPPLEMENTARY INFORMATION: This meeting is open to the public. There will also be a call-in line for individuals who desire to listen to the presentations. The call-in information is: 1-888-523-1228; Call ID #636-1152.

Hearing-impaired persons who will attend the briefing and require the services of a sign language interpreter should contact Pamela Dunston at (202) 376-8105 or at signlanguage@usccr.gov at least three business days before the scheduled date of the meeting.

Meeting Agenda

I. Approval of Agenda

II. Business Meeting

A. Program Planning

• Discussion on Planning Process for 2018-2022 Strategic Plan

• Discussion on OCRE Planning for 2018 Statutory Enforcement Report, Concept Papers and Briefings

B. Management and Operations

• Staff Director's Report

• Staff Changes

C. Presentation by Karen Korematsu and Neal Katyal on Executive Order 9066 and the Internment of Japanese Americans during World War II

III. Adjourn Meeting

Dated: February 15, 2017.
Brian Walch,
Director, Communications and Public Engagement.

[FR Doc. 2017-03307 Filed 2-15-17; 11:15 am]

BILLING CODE 6335-01-P